DEPARTMENT OF HEALTH AND HUMAN SERVICES

Administration on Aging

Agency Information Collection Activities; Submission for OMB Review; Comment Request; Alzheimer's Disease Supportive Services Program Standardized Data Collection

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by June 23, 2010.

ADDRESSES: Submit written comments on the collection of information by fax 202.395.6974 to the OMB Desk Officer for AoA, Office of Information and Regulatory Affairs, OMB.

FOR FURTHER INFORMATION CONTACT: Shannon Skowronski at 202.357.0149 or e-mail: shannon.skowronski@aoa.hhs.gov.

SUPPLEMENTARY INFORMATION: In compliance with 44 U.S.C. 3507, AoA has submitted the following proposed collection of information to OMB for review and clearance.

The Alzheimer's Disease Supportive Services Program (ADSSP) is authorized through Sections 398, 399 and 399A of the Public Health Services (PHS) Act, as amended by Public Law 101-557 Home Health Care and Alzheimer's Disease Amendments of 1990. The ADSSP helps states extend supportive services to persons with Alzheimer's disease and their caregivers, including underserved populations.

In compliance with the PHS Act, AoA developed an ADSSP Data Collection Reporting Tool (ADSSP-DCRT) in 2007. The ADSSP-DCRT collects information about the delivery of direct services by ADSSP state grantees, as well as basic demographic information about service recipients. This revised version includes some revisions to the approved 2007 version. The revised version would be in effect for the FY2011 reporting year and thereafter, while the current reporting tool, OMB Approval Number 0985-0022, would be extended to the end of the FY2010 reporting cycle.

The proposed FY2011 ADSSP-DCRT can be found on AoA's Web site at: http://www.aoa.gov/AoARoot/AoA_Programs/HCLTC/Alz_Grants/docs/ADSSP.pdf.

AoA estimates the burden of this collection of information as follows: 1410 hours.

Dated: May 18, 2010.
Kathy Greenlee,
Assistant Secretary for Aging.

[FR Doc. 2010-12357 Filed 5-21-10; 8:45 am]

BILLING CODE 4154-01-P